DEPARTMENT OF DEFENSE

Office of the Secretary

[Transmittal Nos. 12-66]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740. The following is a copy of a letter to the Speaker of the House of Representatives, Transmittal 12-66 with attached transmittal, policy justification, and Sensitivity of Technology.

Dated: December 26, 2012.
Aaron Siegel,
Alternate OSD Federal Register Liaison Officer, Department of Defense.

Transmittal No. 12-66

Notice of Proposed Issuance of Letter of Offer Pursuant to Section 36(b)(1) of the Arms Export Control Act, as amended

(i) Prospective Purchaser: The Sultanate of Oman

(ii) Total Estimated Value:

Major Defense Equipment* | $82 million
Other | $35 million
TOTAL | $117 million

(iii) Description and Quantity or Quantities of Articles or Services under Consideration for Purchase: 27 AIM-120C-7 Advanced Medium Range Air-to-Air Missiles (AMRAAM), 162 GBU-12 PAVEWAY II 500-lb Laser Guided Bombs, 162 FMU-152 bomb fuzes, 150 BLU-111B/B 500-lb Conical Fin General Purpose Bombs (Freefall Tail), 60 BLU-111B/B 500-lb Retarded Fin General Purpose Bombs (Ballute Tail), and 32 CBU-105 Wind Corrected Munitions Dispensers (WCMD). Also included are 20mm projectiles, Aerial Gunnery Target System (AGTS-36), training munitions, flares, chaff, containers, impulse cartridges, weapon support equipment and components, repair and return, spare and repair parts, publications and technical documentation, personnel training and training equipment, U.S. Government and contractor representative logistics and technical support services, site survey, and other related elements of logistics support.

* As defined in Section 47(6) of the Arms Export Control Act.

(iv) Military Department: Air Force (YAK)

(v) Prior Related Cases, if any:

FMS case SAB-$1,418.9M-2Dec11

FMS case SDC-$693.2M-5Jun02

FMS case YEI-$50.6M-5Jun02

FMS case QAI-$16.4M-27Feb09

FMS case YEK-$377.9M-Awaiting Acceptance

(vi) Sales Commission, Fee, etc., Paid, Offered, or Agreed to be Paid: None.

(vii) Sensitivity of Technology Contained in the Defense Article or Defense Services Proposed to be Sold: See Attached Annex.

(viii) Date Report Delivered to Congress: 10 December 2012.

Policy Justification

Oman—F-16 A/C Weapon Systems

The Sultanate of Oman has requested a possible sale of 27 AIM-120C-7 Advanced Medium Range Air-to-Air Missiles (AMRAAM), 162 GBU-12 PAVEWAY II 500-lb Laser Guided Bombs, 162 FMU-152 bomb fuzes, 150 BLU-111B/B 500-lb Conical Fin General Purpose Bombs (Freefall Tail), 60 BLU-111B/B 500-lb Retarded Fin General Purpose Bombs (Ballute Tail), and 32 CBU-105 Wind Corrected Munitions Dispensers (WCMD). Also included are 20mm projectiles, Aerial Gunnery Target System (AGTS-36), training munitions, flares, chaff, containers, impulse cartridges, weapon support equipment and components, repair and return, spare and repair parts, publications and technical documentation, personnel training and training equipment, U.S. Government and contractor representative logistics and technical support services, site survey, and other related elements of logistics support. The estimated cost is $117 million.

This proposed sale will contribute to the foreign policy and national security of the United States by helping to improve the security of a friendly country which has been, and continues to be, an important force for political stability and economic progress in the Middle East.

The proposed purchase of munitions will improve Oman's capability to meet current and future regional threats and will provide a significant increase in the Royal Air Force of Oman's (RAFO) capability to support both its own air defense needs as well as those of coalition operations. This potential sale is in support of RAFO's current twelve F-16s as well as its ongoing acquisition of twelve additional F-16s. Oman should have no difficulty absorbing this additional capability into its armed forces.

The proposed sale of this equipment and support will not alter the basic military balance in the region.

The principal contractors will be Raytheon Company in Waltham, Massachusetts; Textron Defense Systems in Wilmington, Massachusetts; General Dynamics in Falls Church, Virginia; and McAlester Army Ammunition Plant in McAlester, Oklahoma. There are no known offset agreements proposed in connection with this potential sale.

Implementation of this proposed sale will require multiple trips to Oman involving many U.S. Government or contractor representatives over a period of up to or over 15 years for program and technical support and training.

There will be no adverse impact on U.S. defense readiness as a result of this proposed sale.

Transmittal No. 12-66

Notice of Proposed Issuance of Letter of Offer Pursuant to Section 36(b)(1) of the Arms Export Control Act

Annex

Item No. vii

(vii) Sensitivity of Technology:

1. The AIM-120C-7 Advanced Medium Range Air-to-Air Missile (AMRAAM) is a supersonic, air launched, aerial intercept, guided missile featuring digital technology and micro-miniature solid-state electronics. The missile employs active radar target tracking, proportional navigation guidance, and active Radio Frequency target detection. It can be launched day or night, in any weather and increases pilot survivability by allowing the pilot to disengage after missile launch and to engage other targets. AMRAAM capabilities include lookdown/shootdown, multiple launches against multiple targets, resistance to electronic countermeasures, and interception of high- and low-flying and maneuvering targets. AMRAAM All-Up-Round (AUR) is classified Confidential; major components and subsystems range from Unclassified to Confidential; and technical data and other documentation are classified up to Secret.

2. The GBU-12 (Paveway II) is a 500-lb laser guided bomb. It consists of a MAU-169L/B Computer Control Group and MXU-650C/B Airfoil Group that converts an existing unguided BLU-111B/B free-fall bomb into precision-guided “smart” bomb. The control and airfoil groups enable the dumb bomb to acquire and guide to a point designated by an on or off board laser. Precision-guided munitions offer improved accuracy over free-fall bombs, thus providing the potential for reduced collateral damage. Information revealing target designation tactics and associated aircraft maneuvers, the probability of destroying specific/peculiar targets, vulnerabilities regarding countermeasures and the electromagnetic environment is classified Secret.

3. The FMU-152 is an electrical fuze used with a variety of precision guided weapons. It enables the bombs with which it is paired to function with a number of cockpit-selectable parameters. Hardware and technical data is Unclassified.

4. The BLU-111B/B is a 500-pound, unguided, general purpose bomb that can be fitted with an array of fuzes (proximity, mechanical, electrical) and nose/tail kits (conical, retarded, and precision guided). Hardware, technical data, and other documentation may range from Unclassified to Secret depending upon the configuration of the bomb (as unguided or precision guided).

5. The CBU-105D/B Sensor Fused Weapon (SFW) is an advanced, 1,000-pound cluster bomb munition containing sensor fused sub-munitions that are designed to attack and defeat a wide range of moving or stationary land and maritime threats with minimal collateral damage. The SFW is the currently the only combat-proven, weapon that meets U.S. legal and policy requirements for cluster munition safety standards. Major components include the SUU-66 Tactical Munitions Dispenser (TMD), ten (10) BLU-108 sub-munitions, each with four (4) “hockey puck” shaped skeet infrared sensing projectiles for a total of forty (40) warheads. The munition, in its All-Up-Round (AUR) configuration, is Unclassified, while submunitions and technical data are classified up to Secret. Anti-tamper security measures are incorporated into the munition to prevent exploitation.

6. Common Munitions Bit/Reprogramming Equipment (CMBRE)—CMBRE is a piece of support equipment used to interface with weapon systems to initiate Built-in-Test (BIT), report BIT results, and upload/download flight software. CMBRE supports multiple munitions platforms with a range of applications that perform preflight checks, periodic maintenance checks, loading of Operational Flight Program (OFP) data, loading of munitions mission planning data, loading of Global Positioning System (GPS) cryptographic keys, and declassification of munitions memory. CMBRE is a system that manages data and information classified up to Secret.

7. Software, hardware, and other data/information, which is classified or sensitive, is reviewed prior to release to protect system vulnerabilities, design data, and performance parameters. Some end-item hardware, software, and other data identified above are classified at the Confidential and Secret level. Potential compromise of these systems is controlled through management of the hardware and software weapon systems on a case-by-case basis.

8. If a technologically advanced adversary were to obtain knowledge of the specific hardware or software source code in this proposed sale, the information could be used to develop countermeasures which might reduce weapon system effectiveness or be used in the development of systems with similar or advance capabilities.

[FR Doc. 2012-31420 Filed 12-28-12; 8:45 am]

BILLING CODE 5001-06-P